DEPARTMENT OF ENERGY

Federal Energy Regulatory Commission

[Docket Nos. RP00-414-002 and RP01-15-003]

PG&E Gas Transmission, Northwest Corporation; Notice of Compliance Filing

May 5, 2003.

Take notice that on April 30, 2003, PG&E Gas Transmission, Northwest Corporation (GTN), tendered for filing as part of its FERC Gas Tariff, Second Revised Volume No. 1-A, the revised tariff sheets listed in Appendix A to the filing, with an effective date of August 29, 2002.

GTN states that the filing is being made to comply with the Commission's Second Order on Compliance with Order No. 637 issued April 9, 2003, in Docket Nos. RP00-414 and RP01-15.

GTN further states that a copy of this filing has been served on GTN's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11657 Filed 5-9-03; 8:45 am]

BILLING CODE 6717-01-P